DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995, as amended (44 U.S.C. 3507).

Title: Mortgage Portfolio Protection Program (MPPP).

Type of Information Collection: Reinstatement, with change, of a previously approved collection for which approval has expired.

OMB Number: 3067-0229.

Abstract: The National Flood Insurance Program (NFIP) authorized by Public Law 90-448 (1968) and expanded by Public Law 93-234 (1973) and Public Law 103-325 (1994) provides federally subsidized flood insurance for existing buildings exposed to flood risk. In return, communities enact and administer construction safeguards to ensure that new construction in the floodplain will be built to eliminate or minimize future flood damage. In accordance with Public Law 93-234, the purchase of flood insurance is mandatory when Federal or federally related financial assistance is being provided for acquisition or construction of buildings located or to be located within FEMA-identified special flood hazard areas of communities that are participating in the program. The MPPP is a mechanism by which lending institutions, mortgage servicing companies and others servicing mortgage loan portfolios can bring their mortgage loan portfolios into compliance with the flood insurance purchase requirements of the Flood Disaster Protection Act of 1973.

Affected Public: Individuals and Households; Business or other for profit; Not-for-profit institutions; Farms; Federal Government; State, local, or Tribal government.

Number of Respondents: 273.

Estimated Time per Respondent: WYO—0.5 minutes; Lender/Services—0.5 minutes; WYO Company Policy—0.25 hours; New WYO Entrant 750 hours.

Estimated Total Annual Burden Hours: 2,386.

Frequency of Response: One-time.

COMMENTS: Interested persons are invited to submit written comments on the proposed information collection to the Office of Management and Budget, Office of Information and Regulatory Affairs, Attention: Desk Officer for the Emergency Preparedness and Response Directorate/Federal Emergency Management Agency, Washington, DC 20503, within 30 days of the date of this notice.

FOR FURTHER INFORMATION CONTACT: Requests for additional information or copies of the information collection should be made to Muriel B. Anderson, Chief, Records Management Branch, Information Resources Management Division, Information Technology Services Directorate, Federal Emergency Management Agency, Emergency Preparedness and Response Directorate, Department of Homeland Security 500 C Street, SW., Room 316, Washington, DC 20472. Facsimile number (202) 646-3347, or e-mail address InformationCollections@fema.gov.

Dated: August 11, 2003.
George Trotter,
Acting Division Director, Information Resources Management Division, Information Technology Services Directorate.

[FR Doc. 03-21007 Filed 8-15-03; 8:45 am]

BILLING CODE 6718-01-P